DEPARTMENT OF THE INTERIOR

Bureau of Land Management

[NV-056-1430-EU; N-61362]

Recreation and Public Purposes Act Classification, Nye County, NV

AGENCY: Bureau of Land Management, Interior.

ACTION: Notice of realty action.

SUMMARY: The Bureau of Land Management (BLM) has examined and found suitable for classification for lease or conveyance under the provisions of the Recreation and Public Purposes Act approximately 82.81 acres of public land in Nye County, Nevada. The Nye County School District proposes to use the land for school site purposes.

DATES: Interested parties may submit written comments to the BLM at the address stated below. Comments must be received by not later than November 4, 2005.

ADDRESSES: Please mail your comments to the Las Vegas Field Manager, Bureau of Land Management, Las Vegas Field Office, 4701 North Torrey Pines Drive, Las Vegas, Nevada 89130-2301.

FOR FURTHER INFORMATION CONTACT: Shawna Woods, Realty Specialist at the above address or by telephone at (702) 515-5099.

SUPPLEMENTARY INFORMATION: The following described public land near Pahrump, Nevada in Nye County has been examined and found suitable for classification for lease or conveyance under the provisions of the Recreation and Public Purposes (R&PP) Act, as amended (43 U.S.C. 869 et seq.) and is hereby classified accordingly:

Mount Diablo Meridian, Nevada

T. 21 S., R 53 E.,

Sec. 3, Lots 2 and 3.

Containing 82.82 acres, more or less.

In accordance with the R&PP Act, the Nye County School District has filed a petition/application and Plan of Development for an elementary school campus, bus storage, and maintenance yard. The Plan of Development was subsequently amended to add a middle school and high school. The land is not required for any federal purpose. The lease or conveyance is consistent with the Las Vegas Resource Management Plan, dated October 5, 1998, and would be in the public interest. The lease or conveyance, when issued, will be subject to the following terms, conditions, and reservations:

1. Provisions of the Recreation and Public Purposes Act are all applicable regulation of the Secretary of the Interior.

2. Reservation of a right-of-way thereon for ditches or canals constructed by the authority of the United States, Act of August 30, 1890 (26 Stat. 391, 43 U.S.C. 945).

3. All minerals shall be reserved to the United States, together with the right to prospect for, mine, and remove such deposits from the same under applicable laws and regulations established by the Secretary of the Interior.

And will be subject to:

Valid existing rights of record, including those documented on the official public land records at the time of lease or patent issuance.

These lands were previously identified for exchange and segregated from mineral entry under case file number N-61968FD, with record notation as of October 1, 2002. The exchange is no longer being pursued, the associated segregation, therefore, will terminate upon the date and time of publication of this Notice of Realty Action in the Federal Register, and the lands will thereupon be opened to disposal.

(43 CFR 2201.1-2(c)(2))

Detailed information concerning the proposed action, including but not limited to documentation relating to compliance with applicable environmental and cultural resource laws, is available for review at the BLM, 4701 North Torrey Pines Drive, Las Vegas, Nevada 89130, and telephone: (702) 515-5099.

On September 20, 2005, the above described land will be segregated from all other forms of appropriation under the public land laws, including the general mining laws, except for leasing or conveyance under the R&PP Act and leasing under the mineral leasing laws.

Interested parties may submit written comments regarding the proposed lease or conveyance or classification of the land to the Field Manager at the address stated above in this notice for that purposes. Comments must be received by not later than November 4, 2005.

Classification Comments: Interested parties may submit comments involving the suitability of the land for an elementary school campus, bus storage, and maintenance yard. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a school campus and bus storage yard.

Any adverse comments will be reviewed by the State Director who may sustain, vacate, or modify this realty action. In the absence of any adverse comments, these realty actions will become the final determination of the Department of the Interior. The classification of the land described in this Notice will become effective on November 21, 2005. The lands will not be offered for lease or conveyance until after the classification becomes effective.

(Authority: 43 CFR 2741.5)

Dated: July 29, 2005.
Anna Wharton,
Acting Assistant Field Manager, Division of Lands, Las Vegas, NV.

[FR Doc. 05-18608 Filed 9-19-05; 8:45 am]

BILLING CODE 4310-HC-P